FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 23, 2016.

A. Federal Reserve Bank of Kansas City (Dennis Denney, Assistant Vice President) 1 Memorial Drive, Kansas City, Missouri 64198-0001:

1. Robert Quintana, Las Vegas, New Mexico; to acquire shares of FNB Financial Corporation, and thereby indirectly acquire Community 1st Bank Last Vegas, both of Las Vegas, New Mexico.

B. Federal Reserve Bank of Dallas (Robert L. Triplett III, Senior Vice President) 2200 North Pearl Street, Dallas, Texas 75201-2272:

1. Andrew C. Rector, Fort Worth, Texas, individually; and Andrew C. Rector, Linda Lloyd Rector 2009 Irrevocable Trust, Tracy T. Rector 2009 Irrevocable Trust, Scott Willis Rector 2009 Irrevocable Trust, and Andrew Campbell Rector 2009 Irrevocable Trust, all of Fort Worth, Texas, and Kathy Rector, Azle, Texas, as a group acting in concert, to acquire shares of Horizon Bankshares, Inc., and therefore indirectly The National Bank of Texas at Fort Worth, both of Fort Worth, Texas.

Board of Governors of the Federal Reserve System, September 2, 2016.
Robert deV. Frierson,
Secretary of the Board.

[FR Doc. 2016-21596 Filed 9-7-16; 8:45 am]

BILLING CODE 6210-01-P